FEDERAL COMMUNICATIONS COMMISSION

47 CFR Part 54

[WC Docket Nos. 22-238, 11-42, 21-450; FCC 23-96; FR ID 258272]

Supporting Survivors of Domestic and Sexual Violence; Lifeline and Link Up Reform Modernization

AGENCY: Federal Communications Commission.

ACTION: Final rule; correcting amendments.

SUMMARY: On December 5, 2023, the Federal Communications Commission (Commission) revised Commission rules. That item showed the Commission's adoption of new rules to implement the Safe Connections Act of 2022. When published in the Federal Register, however, an additional change was made that was different from the item adopted by the Commission. This correction reverts the language of the rule to the language as adopted by the Commission.

DATES: Effective on November 4, 2024.

FOR FURTHER INFORMATION CONTACT: Nicholas Page, Nicholas.Page@fcc.gov, Telecommunications Access Policy Division, Wireline Competition Bureau, (202) 418-7400 or TTY: (202) 418-0484.

SUPPLEMENTARY INFORMATION: This summary corrects the rules published December 5, 2023, 88 FR 84406 (FR Doc. 2023-25835). Accordingly, paragraph (s), which was added to § 54.400 in the first column on page 84446, is corrected to remove `and' at the end of paragraph (s)(3). Compliance with these rules began upon announcement in the Federal Register (89 FR 70119, August 29, 2024) (FR Doc. 2024-18938).

List of Subjects in 47 CFR Part 54

Communications, Communication common carriers, Privacy, Telecommunications, Reporting and recordkeeping requirements.

Accordingly, 47 CFR part 54 is corrected by making the following correcting amendments:

PART 54—UNIVERSAL SERVICE

1. The authority citation for part 54 continues to read as follows:

Authority: 47 U.S.C. 151, 154(i), 155, 201, 205, 214, 219, 220, 229, 254, 303(r), 403, 1004, 1302, 1601-1609, and 1752, unless otherwise noted.

2. Amend § 54.400 by revising paragraph (s)(3) to read as follows:

§ 54.400 Terms and definitions.

* * * * *

(s) * * *

(3) At least one member of the household has received a Federal Pell Grant under section 401 of the Higher Education Act of 1965 (20 U.S.C. 1070a) in the current award year, if such award is verifiable through the National Verifier or National Lifeline Accountability Database or the participating provider verifies eligibility under § 54.1806(a)(2);

* * * * *

Federal Communications Commission.
Marlene Dortch,
Secretary.

[FR Doc. 2024-25531 Filed 11-1-24; 8:45 am]

BILLING CODE 6712-01-P